DEPARTMENT OF AGRICULTURE

Forest Service

Deschutes and Ochoco National Forests Resource Advisory Committee

AGENCY: Forest Service, USDA.

ACTION: Notice of meeting.

SUMMARY: The Deschutes and Ochoco National Forests Resource Advisory Committee will meet in Redmond, Oregon. The purpose of the meeting is to receive natural resource projects that will be reviewed and recommended, discuss the Committee's project guidelines and decisionmaking priorities, review bylaws, elect a Chair and discuss reports related to the work of the Committee under Title II of the Secure Rural Schools and Community Self-Determination Act of 2000.

DATES: The meeting will be held May 10, 2005 from 1 p.m. to 4 p.m.

ADDRESSES: The meeting will be held at the Office of the Central Oregon Intergovernmental Council, 2363 SW., Glacier Place, Redmond, Oregon 97756. Send written comments to Dan Rife, acting as Designated Federal Official for Larry Timchak, for the Deschutes and Ochoco Resource Advisory Committee, c/o Forest Service, USDA, Ochoco National Forest, 3160 NE., 3rd St., Prineville, OR 97754 or electronically to drife@fs.fed.us.

FOR FURTHER INFORMATION CONTACT: Dan Rife, Acting as Designated Federal Official for Larry Timchak, Ochoco National Forest, 541-383-5534.

SUPPLEMENTARY INFORMATION: The meeting is open to the public. Committee discussion is limited to Forest Service staff and Committee members. However, persons who wish to bring Title II matters to the attention of the Committee may file written statements with the Committee staff before or after the meeting. A public input session will be provided and individuals who made written requests by May 4 will have the opportunity to address the Committee at the session.

Dated: Aril 14, 2005.
Dan Rife,
Acting Designated Federal Official.

[FR Doc. 05-7885 Filed 4-19-05; 8:45 am]

BILLING CODE 3410-11-M